NUCLEAR REGULATORY COMMISSION

[Docket No. 50-346]

Firstenergy Nuclear Operating Company And Firstenergy Nuclear Generation Corp.; Notice of Withdrawal of Application for Amendment to Facility Operating License

The U.S. Nuclear Regulatory Commission (NRC, the Commission) has granted the request of FirstEnergy Nuclear Operating Company and FirstEnergy Nuclear Generation Corp. (the licensee) to withdraw its January 11, 2005, application for proposed amendment to Facility Operating License No. NPF-3 for the Davis-Besse Nuclear Power Station, Unit 1, located in Ottawa County.

The proposed amendment would have revised the updated safety analysis report (USAR) by modifying the design requirements for protection from tornado missiles. Specifically, the proposed amendment would have allowed certain structures, systems, and components that are currently provided with physical protection from tornado-induced missiles to be evaluated for acceptability based on the Electric Power Research Institute “Tornado Missile Risk Evaluation Methodology” (TORMIS).

The Commission had previously issued a Notice of Consideration of Issuance of Amendment published in the Federal Register on February 15, 2005 (70 FR 7766). However, by letter dated January 26, 2007, the licensee withdrew the proposed change.

For further details with respect to this action, see the application for amendment dated January 11, 2005, and the licensee's letter dated January 26, 2007, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 30th day of January 2007.
For The Nuclear Regulatory Commission.
Thomas J. Wengert,
Project Manager, Plant Licensing Branch III-2, Division of Operating Reactor Licensing, Office of Nuclear Reactor Regulation.

[FR Doc. E7-1869 Filed 2-5-07; 8:45 am]

BILLING CODE 7590-01-P